DEPARTMENT OF HEALTH AND HUMAN SERVICES

Food and Drug Administration

Food Advisory Committee; Notice of Meeting

AGENCY: Food and Drug Administration, HHS.

ACTION: Notice.

This notice announces a forthcoming meeting of a public advisory committee of the Food and Drug Administration (FDA). The meeting will be open to the public.

Name of Committee: Food Advisory Committee.

General Function of the Committee: To provide advice and recommendations to the agency on FDA's regulatory issues.

Date and Time: The meeting will be held on December 10, 2003, from 9:30 a.m. until 4:30 p.m. and on December 11, 2003, from 8:30 a.m. to 4 p.m.

Location: Hotel Washington, Pennsylvania Ave. at 15th St. NW., Washington, DC 20004-1099.

Contact Person: Catherine M. DeRoever, Center for Food Safety and Applied Nutrition (HFS-006), Food and Drug Administration, 5100 Paint Branch Pkwy., College Park, MD, 301-436-2397, or FDA Advisory Committee Information Line, 1-800-741-8138 (301-443-0572 in the Washington, DC area), code 10564. Please call the Information Line for up-to-date information on this meeting.

Agenda: The purpose of the meeting is to review reports of the Dietary Supplements, Additives and Ingredients, Food Biotechnology, Contaminants and Natural Toxicants, and Infant Formula Subcommittees and to provide a status report and response to the Food Advisory Committee's recommendations on methyl mercury in fish and shellfish.

Procedure: Interested persons may present data, information, or views, orally or in writing, on issues pending before the committee. Written submissions may be made to the contact person by November 26, 2003. Oral presentations from the public on the subcommittee reports will be scheduled between approximately 11:30 a.m. and 12 noon on December 10, 2003, and from 9:15 a.m. and 12:15 p.m. on December 11, 2003. Time allotted for each presentation may be limited. Those desiring to make formal oral presentations should notify the contact person before November 26, 2003, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Catherine DeRoever at least 7 days in advance of the meeting.

Notice of this meeting is given under the Federal Advisory Committee Act (5 U.S.C. app. 2).

Dated: November 10, 2003.
Peter J. Pitts,
Associate Commissioner for External Relations.

[FR Doc. 03-28684 Filed 11-17-03; 8:45 am]

BILLING CODE 4160-01-S